CHEMICAL SAFETY AND HAZARD INVESTIGATION BOARD

Draft Investigation Report—DuPont Belle; Public Comment Requested

In connection with its investigation into three incidents that occurred at the DuPont plant in Belle, West Virginia, within a 48 hour period on January 22 and 23, 2010, the U.S. Chemical Safety Board (CSB) announces that it is seeking public review and comment on its draft investigation report on these incidents. The draft report will be posted on the CSB Web site on July 7, 2011, and will be available for review and comment until 5 p.m. on August 22, 2011. Comments should preferably be sent by e-mail to dupontcomments@csb.gov following the directions for submitting comments provided on the CSB Web site (http://www.csb.gov.). Comments may also be sent to CSB Headquarters (see address and name below). All comments received are considered public documents and will be available for public review either at CSB Headquarters or by following directions posted on the CSB Web site.

By Notation Item #862, the Board unanimously voted to: (a) Publish the draft report on the DuPont-Belle incidents on the CSB's Web site (clearly marked as “Staff draft for public comment” and “Subject to change, approval, or disapproval by the Board”) and publicize its availability; (b) provide a period of forty-five (45) calendar days to receive public comment in response to the draft investigation report; and (c) consider all comments received prior to approval and publication of the final investigation report on the DuPont-Belle incidents.

The three separate incidents at the DuPont plant involved releases of methyl chloride, oleum, and phosgene, and all three triggered notification of outside emergency response agencies. The incident involving the release of phosgene gas led to the fatal exposure of a worker performing routine duties in an area where phosgene cylinders were stored and used. Key issues involved in the three investigations include safe process design, mechanical integrity, alarm management, operating procedures, and company emergency response and notification procedures.

Following the close of the public comment period, the draft report may be modified based on comments received and other staff investigative activities. A final report will then be presented to the Board for its consideration and final vote. Only after the report is approved by the Board will the investigation into the three incidents at the DuPont facility be considered closed.

Address to submit written comments: If the submittal of comments by e-mail is not feasible for any reason, written comments may also be provided to the CSB by mail to: Ms. Amy McCormick, Board Affairs Specialist, DuPont Draft Investigation Report Comments, U.S. Chemical Safety Board, 2175 K Street, NW., Washington, DC 20037.

Copies of the comments and the draft report will be available for review at CSB Headquarters and on the CSB Web site. To answer any question regarding the submission of comments or to establish times to review these documents at CSB Headquarters, please call Amy McCormick, Board Affairs Specialist, at (202) 261-7630.

Daniel M. Horowitz,
Managing Director.

[FR Doc. 2011-17099 Filed 7-6-11; 8:45 am]

BILLING CODE 6350-01-P